DEPARTMENT OF ENERGY

Federal Energy Regulatory Commission

Combined Notice of Filings #2

May 5, 2009.

Take notice that the Commission received the following electric corporate filings:

Docket Numbers: EC09-76-000.

Applicants: Trans Bay Cable LLC.

Description: Application for Authorization to Dispose of Jurisdictional Facilities and for Expedited Treatment of Trans Bay Cable LLC.

Filed Date: 04/29/2009.

Accession Number: 20090429-5021.

Comment Date: 5 p.m. Eastern Time on Wednesday, May 20, 2009.

Docket Numbers: EC09-77-000.

Applicants: Entergy Arkansas Inc., Entergy Gulf States, Inc.

Description: Entergy Arkansas, Inc. et al. submits their Application for Order Authorizing Disposition and Acquisition of Jurisdictional Assets under Section 203 of the Federal Power Act.

Filed Date: 04/30/2009.

Accession Number: 20090505-0016.

Comment Date: 5 p.m. Eastern Time on Thursday, May 21, 2009.

Take notice that the Commission received the following electric rate filings:

Docket Numbers: ER09-683-002.

Applicants: Alex Energy, LLC.

Description: Alex Energy LLC submits supplement to its application for a Finding of Category 1 Seller Status.

Filed Date: 04/30/2009.

Accession Number: 20090504-0187.

Comment Date: 5 p.m. Eastern Time on Thursday, May 21, 2009.

Docket Numbers: ER08-1051-003.

Applicants: NSTAR Electric Company.

Description: NSTAR Electric Company submits its Annual Informational Filing.

Filed Date: 04/27/2009.

Accession Number: 20090428-0018.

Comment Date: 5 p.m. Eastern Time on Monday, May 18, 2009.

Docket Numbers: ER09-701-001.

Applicants: PJM Interconnection LLC.

Description: PJM Response to FERC Deficiency Letter.

Filed Date: 04/28/2009.

Accession Number: 20090428-5214.

Comment Date: 5 p.m. Eastern Time on Tuesday, May 19, 2009.

Docket Numbers: ER09-883-001.

Applicants: Southwest Power Pool, Inc.

Description: Southwest Power Pool, Inc submits amendatory filing updated agreement with revised Exhibit A to replace the agreement submitted on 3/23/09.

Filed Date: 04/29/2009.

Accession Number: 20090430-0320.

Comment Date: 5 p.m. Eastern Time on Wednesday, May 20, 2009.

Docket Numbers: ER09-1052-000.

Applicants: Pacific Gas and Electric Company.

Description: Pacific Gas and Electric Co's Twenty-Fifth Quarterly Filing of Facilities Agreements.

Filed Date: 04/29/2009.

Accession Number: 20090430-0243.

Comment Date: 5 p.m. Eastern Time on Wednesday, May 20, 2009.

Docket Numbers: ER09-1053-000.

Applicants: PJM Interconnection LLC.

Description: PJM Interconnection, LLC submits an executed Interim Interconnection Service Agreement with ExelonGgeneration Co, LLC etc.

Filed Date: 04/28/2009.

Accession Number: 20090430-0242.

Comment Date: 5 p.m. Eastern Time on Tuesday, May 19, 2009.

Docket Numbers: ER09-1054-000.

Applicants: San Diego Gas & Electric Company.

Description: San Diego Gas & Electric Company tenders for filing Engineering and Procurement Agreement dated 4/14/09 with Iberdrola Renewables, Inc.

Filed Date: 04/28/2009.

Accession Number: 20090430-0171.

Comment Date: 5 p.m. Eastern Time on Tuesday, May 19, 2009.

Docket Numbers: ER09-1055-000.

Applicants: Southwest Power Pool, Inc.

Description: Southwest Power Pool, Inc submits Original Service Agreement 1782 to its FERC Electric Tariff, Fifth Revised Volume 1.

Filed Date: 04/28/2009.

Accession Number: 20090430-0170.

Comment Date: 5 p.m. Eastern Time on Tuesday, May 19, 2009.

Docket Numbers: ER09-1061-000.

Applicants: Woodland Biomass Power Ltd.

Description: Application of Woodland Biomass Power LTD for Blanket Authorizations, including pursuant to 18 CFR Part 34 for all future issuances of securities and assumptions of liability, certain waivers, and order approving market-based rate tariff.

Filed Date: 04/30/2009.

Accession Number: 20090501-0157.

Comment Date: 5 p.m. Eastern Time on Thursday, May 21, 2009.

Docket Numbers: ER09-1062-000.

Applicants: Tampa Electric Company.

Description: Tampa Electric Company submits revised rate schedule sheets for inclusion in the rate schedules comprising Tampa Electric's bilateral interchange contracts with 16 other utilities.

Filed Date: 04/29/2009.

Accession Number: 20090430-0176.

Comment Date: 5 p.m. Eastern Time on Wednesday, May 20, 2009.

Docket Numbers: ER09-1064-000.

Applicants: California Independent System Operator Corporation.

Description: California Independent System Operator Corporation submits amendments to the effective CAISO Tariff to implement a resource adequacy standard capacity product, et al.

Filed Date: 04/28/2009.

Accession Number: 20090430-0329.

Comment Date: 5 p.m. Eastern Time on Tuesday, May 19, 2009.

Docket Numbers: ER09-1065-000.

Applicants: PJM Interconnection LLC.

Description: PJM Interconnection, LLC submits an executed interconnection service agreement entered into PJM, et al.

Filed Date: 04/29/2009.

Accession Number: 20090430-0318.

Comment Date: 5 p.m. Eastern Time on Wednesday, May 20, 2009.

Docket Numbers: ER09-1066-000.

Applicants: California Power Exchange Corporation.

Description: The California Power Exchange Corporation submits for filing Original Sheet 10 et al. to its FERC Rate Schedule 1.

Filed Date: 04/29/2009.

Accession Number: 20090430-0322.

Comment Date: 5 p.m. Eastern Time on Wednesday, May 20, 2009.

Docket Numbers: ER09-1067-000.

Applicants: Entergy Services, Inc.

Description: Entergy Texas, Inc. submits Rate Schedule 198 providing for cost-based power sales for full requirements service to Brazos Electric Power Coop, Inc.

Filed Date: 04/29/2009.

Accession Number: 20090430-0324.

Comment Date: 5 p.m. Eastern Time on Wednesday, May 20, 2009.

Docket Numbers: ER09-1068-000.

Applicants: Southwest Power Pool, Inc.

Description: Southwest Power Pool, Inc. submits Meter Agent Services Agreement between Dogwood Energy, LLC as the Market Participant and KCP&L Greater Missouri Operations Company as the Meter Agent.

Filed Date: 04/29/2009.

Accession Number: 20090430-0319.

Comment Date: 5 p.m. Eastern Time on Wednesday, May 20, 2009.

Docket Numbers: ER09-1069-000.

Applicants: Southwest Power Pool, Inc.

Description: Southwest Power Pool, Inc. submits Service Agreement for Network Integration Transmission Service between SPP and OPPD, et al.

Filed Date: 04/30/2009.

Accession Number: 20090501-0141.

Comment Date: 5 p.m. Eastern Time on Thursday, May 21, 2009.

Docket Numbers: ER09-1070-000.

Applicants: Southwest Power Pool, Inc.

Description: Southwest Power Pool, Inc. submits Service Agreement for Network Integration Transmission Service between SPP as Transmission Provider and NNPPD as Network Customer, et al.

Filed Date: 04/30/2009.

Accession Number: 20090501-0140.

Comment Date: 5 p.m. Eastern Time on Thursday, May 21, 2009.

Docket Numbers: ER09-1071-000.

Applicants: Xcel Energy Services Inc.

Description: Southwestern Public Service Company submits Service Agreement No. 614-SPS et al.

Filed Date: 04/30/2009.

Accession Number: 20090501-0139.

Comment Date: 5 p.m. Eastern Time on Thursday, May 21, 2009.

Docket Numbers: ER09-1072-000.

Applicants: El Paso Electric Company.

Description: El Paso Electric Company submits Interconnection Agreement between El Paso Electric Company and Tri State Generation and Transmission Association, Inc., et al.

Filed Date: 04/30/2009.

Accession Number: 20090501-0138.

Comment Date: 5 p.m. Eastern Time on Thursday, May 21, 2009.

Docket Numbers: ER09-1073-000.

Applicants: Westar Energy, Inc.

Description: Westar Energy, Inc. submits Service Agreement No. 1.

Filed Date: 04/30/2009.

Accession Number: 20090501-0136.

Comment Date: 5 p.m. Eastern Time on Thursday, May 21, 2009.

Docket Numbers: ER09-1074-000.

Applicants: Midwest Independent Transmission System Operator, Inc.

Description: Midwest Independent Transmission System Operator, Inc., et al. submits Capacity Portability Service Agreement between Buckeye Power, Incorporated, etc.

Filed Date: 04/30/2009.

Accession Number: 20090501-0137.

Comment Date: 5 p.m. Eastern Time on Thursday, May 21, 2009.

Docket Numbers: ER09-1076-000.

Applicants: Florida Power & Light Company.

Description: Florida Power & Light Company submits for filing Original Sheet 1, et al. FERC Rate Schedule 318.

Filed Date: 04/30/2009.

Accession Number: 20090501-0142.

Comment Date: 5 p.m. Eastern Time on Thursday, May 21, 2009.

Take notice that the Commission received the following electric securities filings:

Docket Numbers: ES09-29-000.

Applicants: Entergy Louisiana, LLC.

Description: Application of Entergy Louisiana, LLC, for Authorization under Federal Power Act Section 204.

Filed Date: 04/29/2009.

Accession Number: 20090429-5199.

Comment Date: 5 p.m. Eastern Time on Wednesday, May 20, 2009.

Docket Numbers: ES09-30-000.

Applicants: Entergy Gulf States Louisiana, LLC.

Description: Application of Entergy Gulf States Louisiana, LLC., for Authorization under Federal Power Act Section 204.

Filed Date: 04/29/2009.

Accession Number: 20090429-5201.

Comment Date: 5 p.m. Eastern Time on Wednesday, May 20, 2009.

Take notice that the Commission received the following open access transmission tariff filings:

Docket Numbers: OA08-50-003.

Applicants: Duke Energy Carolinas, LLC.

Description: Duke Energy Carolinas, LLC submits First Revised Sheet No. 32, et al. to FERC Electric Tariff, Sixth Revised Volume No. 4.

Filed Date: 04/29/2009.

Accession Number: 20090430-0172.

Comment Date: 5 p.m. Eastern Time on Wednesday, May 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-11070 Filed 5-12-09; 8:45 am]

BILLING CODE 6717-01-P